DEPARTMENT OF HOUSING AND URBAN DEVELOPMENT

[Docket No. FR-5377-N-05]

Notice of Proposed Information Collection: Comment Request; Floodplain Management and Protection of Wetlands

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: February 28, 2011.

ADDRESSES: Interested persons are invited to submit comments regarding this proposal. Comments should refer to the proposal by name and/or OMB Control Number and should be sent to: Rudene Thomas, Community Planning and Development, Department of Housing and Urban Development, 451 7th Street, SW., Room 7256, Washington, DC 20410-7000.

FOR FURTHER INFORMATION CONTACT: Charles Bien, Acting Director, Office of Environment and Energy, Department of Housing and Urban Development, Room 7250, 451 7th Street, Washington, DC 20410-7000. For telephone communication, contact Jerimiah Sanders, Environmental Review Division, 202-402-4571 or e-mail: Jerimiah.J.Sanders@hud.gov. This is not a toll-free number. Hearing or speech-impaired individuals may access this number via TTY by calling the toll-free Federal Information Relay Service at 1-800-877-8339.

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Floodplain Management and Protection of Wetlands.

OMB Control Number: ####-####.

Description of the need for the information and proposed use: The purpose of this information collection is to document regulatory compliance with Executive Order 11988, “Floodplain Management,” and Executive Order 11990, “Protection of Wetlands.” Each respondent that proposes to use HUD assistance to benefit a property located within a floodplain or wetland must establish and maintain sufficient records to enable the Secretary of HUD to determine whether the floodplain management requirements of 24 CFR part 55, especially subpart C, and the protection of wetlands requirements of Executive Order 11990 have been met. The record, together with other environmental compliances that a proposed project may require under the National Environmental Policy Act and related laws, will serve to obtain the approval of an application under 24 CFR part 50 or will allow the use of grant funds or assistance already awarded under 24 CFR part 58.

Agency form numbers, if applicable: Not applicable.

Members of affected public: Primary: Local, State, or Tribal Governments. Others: Public housing agencies, and private non- and for-profit entities.

Estimation of the total numbers of hours needed to prepare the information collection including number of respondents, frequency of response, and hours of response: Annual reporting and recordkeeping hour burden estimate is a total of 2,700 hours. Estimates are 300 respondents, 1 frequency, and 9 hours of response. Total of 300 hours is estimated for notification of floodplain hazard (regulatory reference is Sec. 55.21). Total of 2,400 hours is estimated for documentation of compliance with Sec. 55.20 (regulatory reference is Sec. 55.27).

Status of the proposed information collection: Extension of a currently approved collection.

Authority: The Paperwork Reduction Act of 1995, 44 U.S.C. Chapter 35, as amended.

Dated: December 22, 2010.
Clifford Taffet,
General Deputy Assistant Secretary for Community Planning and Development.

[FR Doc. 2010-32788 Filed 12-28-10; 8:45 am]

BILLING CODE 4210-67-P